DEPARTMENT OF HOMELAND SECURITY

Coast Guard

33 CFR Part 165

[Docket No. USCG-2024-0352]

Special Local Regulations; Annual Events Within the Captain of the Port Eastern Great Lakes Zone

AGENCY: Coast Guard, DHS.

ACTION: Notification of enforcement of regulation.

SUMMARY: The Coast Guard will enforce certain safety zones located in the federal regulations for Annual Events in the Captain of the Port Eastern Great Lakes Zone. This action is necessary and intended to protect the safety of life and property on navigable waters prior to, during, and immediately after these events. During each enforcement period, no person or vessel may enter the respective safety zone without the permission of the Captain of the Port Eastern Great Lakes or their designated representative.

DATES: The regulations in 33 CFR 165.939 as listed in Table 165.939 will be enforced for the safety zones identified in the SUPPLEMENTARY INFORMATION section below for the dates and times specified.

FOR FURTHER INFORMATION CONTACT: If you have questions about this notification of enforcement, contact LT William Kelley, Chief of Waterways Management, Sector Eastern Great Lakes, U.S. Coast Guard; telephone 716-253-7299, email D09-SMB-SECBuffalo-WWM@uscg.mil.

SUPPLEMENTARY INFORMATION: The Coast Guard will enforce the following safety zones regulations in 33 CFR 165.939 Table 165.939 for the following events during the dates and times listed. The locations are also provided for your information.

1. Hope Chest Buffalo Niagara Dragon Boat Festival; The safety zone listed in (a)(6) will be enforced on all U.S. waters of the Buffalo River, Buffalo, NY starting at position 42°52′12.0″ N, 078°52′17.0″ W then Southeast to 42°52′03.0″ N, 078°52′12.0″ W then East to 42°52′03.0″ N, 078°52′10.0″ W then Northwest to 42°52′13.0″ N, 078°52′16.0″ W and then returning to the point of origin from 7:45 a.m. through 5:45 p.m. on June 15, 2024.

2. A Salute to our Heroes (Centennial Bash); The safety zone listed in (a)(23) will be enforced on all U.S. waters of Lake Ontario within a 280-foot radius of land position 43°21′51.9″ N, 077°56′59.6″ W in Hamlin, NY from 9:45 p.m. through 11:15 p.m. on June 29, 2024.

3. Town of Newfane Annual Fireworks Show, Olcott, NY; The safety zone listed in (b)(24) will be enforced on all U.S. waters of Lake Ontario within a 560-foot radius of land position 43°20′23.6″ N, 078°43′09.5″ W in Olcott, NY from 9:45 p.m. through 10:45 p.m. on July 3, 20244. City of Erie 4th of July Fireworks, Erie, PA; The safety zone listed in (b)(31) will be enforced on all waters of Lake Erie contained within a 280-foot radius of the fireworks launch site located at 42°08′19.87″ N, 080°05′29.54″ W in Erie, PA from 9:15 p.m. through 10:45 p.m. on July 3, 2024.

5. Hamburg Beach Blast Fireworks Display, Hamburg, NY; The safety zone listed in (b)(33) will be enforced on all U.S. waters of Lake Erie contained within a 280-foot radius of 42°45′59.21″ N, 078°52′41.51″ W in Hamburg, NY from 9:45 p.m. through 10:45 p.m. on July 27, 2024.

6. Thunder on the Niagara Hydroplane Boat Races, North Tonawanda, NY; The safety zone listed in (c)(4) will be enforced on all U.S. waters of the Niagara River near the North Grand Island Bridge, encompassed by a line starting at 43°03′32.9″ N, 078°54′46.9″ W to 43°03′14.6″ N, 078°55′16.0″ W then to 43°02′39.7″ N, 078°54′13.1″ W then to 43°02′59.9″ N, 078°53′42.0″ W and returning to the point of origin from 8:15 a.m. through 5:45 p.m. on both August 3, 2024 and August 4, 2024.

This Notice of Enforcement is issued under authority of 33 CFR 165.939 and 5 U.S.C. 552(a). Pursuant to 33 CFR 165.23, entry into, transiting, or anchoring within these safety zones during an enforcement period is prohibited unless authorized by the Captain of the Port Eastern Great Lakes or their designated representative; designation need not be in writing. Those seeking permission to enter these safety zones may request permission from the Captain of the Port Eastern Great Lakes via channel 16, VHF-FM. Vessels and persons granted permission to enter the safety zone shall obey the directions of the Captain of the Port Eastern Great Lakes or their designated representative. While within a safety zone, all vessels shall operate at the minimum speed necessary to maintain a safe course.

In addition to this notice of enforcement in the Federal Register, the Coast Guard will provide the maritime community with advance notification of the enforcement periods via Broadcast Notice to Mariners or other suitable means. If the Captain of the Port Eastern Great Lakes determines that the safety zone need not be enforced for the full duration stated in this notice, they may use a Broadcast Notice to Mariners to grant general permission to enter the respective safety zone. This notification is being issued by the Coast Guard Sector Eastern Great Lakes Prevention Department Head at the direction of the Captain of the Port.

Dated: May 14, 2024.
J.B. Bybee,
Commander, U.S. Coast Guard, Sector Eastern Great Lakes Prevention Department Head.

[FR Doc. 2024-10994 Filed 5-20-24; 8:45 am]

BILLING CODE 9110-04-P